DEPARTMENT OF LABOR

Mine Safety and Health Administration

[OMB Control No. 1219-0142]

Proposed Extension of Information Collection; Sealing of Abandoned Areas

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995, 44 U.S.C. 3506(c)(2)(A). This program helps to assure that requested data can be provided in the desired format, reporting burden (time and financial resources) is minimized, collection instruments are clearly understood, and the impact of collection requirements on respondents can be properly assessed. Currently, the Mine Safety and Health Administration (MSHA) is soliciting comments on the information collection for Sealing of Abandoned Areas.

DATES: All comments must be received on or before June 9, 2014.

ADDRESSES: Comments concerning the information collection requirements of this notice may be sent by any of the methods listed below.

• Federal E-Rulemaking Portal:http://www.regulations.gov. Follow the on-line instructions for submitting comments for docket number [MSHA-2014-0002].

• Regular Mail: Send comments to MSHA, Office of Standards, Regulations, and Variances, 1100 Wilson Boulevard, Room 2350, Arlington, VA 22209-3939.

• Hand Delivery: MSHA, 1100 Wilson Boulevard, Room 2350, Arlington, VA. Sign in at the receptionist's desk on the 21st floor.

FOR FURTHER INFORMATION CONTACT: Sheila McConnell, Acting Director, Office of Standards, Regulations, and Variances, MSHA, at MSHA.information.collections@dol.gov (email); 202-693-9440 (voice); or 202-693-9441 (facsimile).

SUPPLEMENTARY INFORMATION:

I. Background

Section 103(h) of the Federal Mine Safety and Health Act of 1977 (Mine Act), 30 U.S.C. 813(h), authorizes the Mine Safety and Health Administration (MSHA) to collect information necessary to carry out its duty in protecting the safety and health of miners. Further, Section 101(a) of the Mine Act, 30 U.S.C. 811 authorizes the Secretary to develop, promulgate, and revise as may be appropriate, improved mandatory health or safety standards for the protection of life and prevention of injuries in coal or other mines.

MSHA's standards for sealing abandoned areas in underground coal mines include requirements addressing the design and construction of new seals and the examination, maintenance and repair of all seals.

Section 75.335(b) sets forth procedures for the approval of seal design applications.

Section 75.335(c) requires the submission and certification of information for seal installation.

Section 75.336(a)(2) requires the mine operator to evaluate the atmosphere in the sealed area to determine whether sampling through the sampling pipes in seals provides appropriate sampling locations of the sealed area. The mine operator will make an evaluation for each area that has seals.

Section 75.336(c) requires that mine operators immediately notify MSHA after a sample indicates that the oxygen concentration is 10 percent or greater and methane is between 4.5 percent and 17 percent and after taking the required additional sample from the sealed atmosphere with seals of less than 120 psi.

Section 75.336(e) requires a certified person to record each sampling result, including the location of the sampling points and the oxygen and methane concentrations. Also, any hazardous conditions found must be corrected and recorded in accordance with existing Section 75.363.

Section 75.337(c)(1)-(c)(5) requires a certified person to perform several tasks during seal construction and repair and certify that the tasks were done in accordance with the approved ventilation plan. In addition, a mine foreman or equivalent mine official must countersign the record.

Section 75.337(d) requires a senior mine management official to certify that the construction, installation, and materials used were in accordance with the approved ventilation plan.

Section 75.337(e) requires the mine operator to notify MSHA of certain activities concerning the construction of a set of seals. Section 75.337(e)(1) requires the mine operator to notify the District Manager between 2 and 14 days prior to commencement of seal construction. Section 75.337(e)(2) requires the mine operator to notify the District Manager, in writing, within 5 days of completion of a set of seals and provide a copy of the certifications required in Section 75.337(d). Section 75.337(e)(3) requires the mine operator to submit a copy of the quality control test results for seal material properties specified by Section 75.335 within 30 days of completion of such tests.

Section 75.337(g)(3) requires the mine operator to label sampling pipes to indicate the location of the sampling point when the mine operator installs more than one sampling pipe through a seal.

Section 75.338(a) requires mine operators to certify that persons conducting sampling were trained in the use of appropriate sampling equipment, techniques, the location of sampling points, the frequency of sampling, the size and condition of sealed areas, and the use of continuous monitoring systems, if applicable, before they conduct sampling, and annually thereafter.

Section 75.338(b) requires mine operators to certify that miners constructing or repairing seals, designated certified persons, and senior mine management officials were trained prior to constructing or repairing a seal and annually thereafter.

II. Desired Focus of Comments

MSHA is soliciting comments concerning the proposed information collection related to Sealing of Abandoned Areas. MSHA is particularly interested in comments that:

• Evaluate whether the collection of information is necessary for the proper performance of the functions of the agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

This information collection request is available on http://www.msha.gov/regs/fedreg/informationcollection/informationcollection.asp. The information collection request will be available on MSHA's Web site and on http://www.regulations.gov. MSHA cautions the commenter against providing any information in the submission that should not be publicly disclosed. Full comments, including personal information provided, will be made available on www.regulations.gov and www.reginfo.gov.

The public may also examine publicly available documents at MSHA, 1100 Wilson Boulevard, Room 2350, Arlington, VA. Sign in at the receptionist's desk on the 21st floor.

Questions about the information collection requirements may be directed to the person listed in the FOR FURTHER INFORMATION CONTACT section of this notice.

III. Current Actions

This request for collection of information contains provisions for Sealing of Abandoned Areas. MSHA has updated the data with respect to the number of respondents, responses, burden hours, and burden costs supporting this information collection request.

Type of Review: Extension, without change, of a currently approved collection.

Agency: Mine Safety and Health Administration.

OMB Number: 1219-0142.

Affected Public: Business or other for-profit.

Number of Respondents: 301.

Frequency: On occasion.

Number of Responses: 53,857.

Annual Burden Hours: 6,269 hours.

Annual Respondent or Recordkeeper Cost: $1,510,661.

Comments submitted in response to this notice will be summarized and included in the request for Office of Management and Budget approval of the information collection request; they will also become a matter of public record.

Dated: March 31, 2014.
Patricia W. Silvey,
Certifying Officer.

[FR Doc. 2014-07763 Filed 4-7-14; 8:45 am]

BILLING CODE 4510-43-P